DEPARTMENT OF HOMELAND SECURITY

Coast Guard

[Docket No. USCG-2020-0665]

Guidance: Change 1 to NVIC 21-14 Guidelines for Qualification for STCW Endorsement for Vessel Security Officers

AGENCY: Coast Guard, DHS.

ACTION: Notice of availability.

SUMMARY: The Coast Guard announces the availability of Change 1 to Guidelines for Qualification for STCW Endorsements for Vessel Security Officers, Vessel Personnel with Designated Security Duties, and Security Awareness, NVIC 21-14. This change notice revises NVIC 21-14 to indicate that the Coast Guard has determined that certain sea service aboard military and government owned or operated vessels may be credited toward meeting the sea service requirement for the STCW endorsement for vessel security officer (VSO).

DATES: Change 1 to NVIC 21-14 is effective as of October 29, 2021.

ADDRESSES: To view documents mentioned in this notice, search the docket number USCG-2020-0665 using the Federal eRulemaking Portal at https://www.regulations.gov.

FOR FURTHER INFORMATION CONTACT: For information about this document, contact the Mariner Credentialing Program Policy Division (CG-MMC-2), Coast Guard; telephone 202-372-2357; email MMCPolicy@uscg.mil.

SUPPLEMENTARY INFORMATION: After publication of NVIC 21-14, COMDTPUB 16721, in 2014, the Coast Guard became aware of the need to address the question of whether sea service acquired on military and government owned or operated vessels should be allowed to be used to qualify for a STCW endorsement as VSOs. This change notice revises NVIC 21-14 to indicate that the Coast Guard has determined that sea service accrued aboard certain military and government owned or operated vessels may be credited toward the sea service requirements in 33 CFR 104.215(d)(1)(v)(A) and 33 CFR 104.215(d)(1)(v)(B).

Section 33 CFR 104.215(d)(1)(v)(A) requires 12 months of sea service on a vessel subject to 33 CFR 104.105 to qualify for a STCW endorsement as VSO. Section 33 CFR 104.215(d)(1)(v)(B) requires 6 months of sea service on a vessel subject to 33 CFR 104.105, and satisfaction of a knowledge requirement to qualify for an STCW endorsement as VSO.

The Coast Guard determined that service onboard government owned or operated vessels, such as Military Sealift Command vessels (designated USNS), USACE vessels, and NOAA vessels, of at least 100 gross register tons (GRT) will be creditable toward both 33 CFR 104.215(d)(1)(v)(A) and 33 CFR 104.215(d)(1)(v)(B). The Coast Guard will credit sea service earned on these vessels toward the full sea service requirements because they are operated similarly to a merchant vessel.

The Coast Guard also determined that up to 5 months of service on military vessels will be accepted towards the 6 month minimum sea service requirement in 33 CFR 104.215(d)(1)(v)(B). The remaining month could be accrued on vessels subject to 33 CFR 104.105 or the government owned or operated vessels of at least 100 GRT listed above.

The regulations at 46 CFR 10.232(d)(1) allow the use of military service towards credentials when the Coast Guard determines it is equivalent to sea service acquired on merchant vessels. The purpose of the sea service requirements for a STCW endorsement as VSO is to ensure that the mariner is familiar with general merchant vessel operations. The Coast Guard has determined that the mariner can demonstrate the necessary merchant vessel operational experience with a combination of military sea service, a minimum of 30 days sea service on government owned or operated vessels or any vessel subject to 33 CFR 104.105, and by satisfying the knowledge requirements in 33 CFR 104.215. The policy uses a minimum tonnage of 100 gross register tons to be consistent with requirements for merchant mariners.

In addition, this policy supports the intent of 10 U.S.C. 2015 and Executive Order 13860 of March 4, 2019, titled “Supporting the Transition of Active Duty Service Members and Military Veterans Into the Merchant Marine,” by supporting practices that ensure that members of the United States Armed Forces receive appropriate credit for their military training and experience toward merchant mariner credentialing requirements.

As part of this change to NVIC 21-14, the Coast Guard makes some other minor changes to provide clarity. First, we note in the list of requirements to qualify for a VSO endorsement, the mariner must meet the physical examination requirements in 46 CFR part 10, subpart C. This requirement already exists and applies to this endorsement per 46 CFR 11.337(b). We are adding it to the NVIC so that it is more clear that the physical examination requirements are also a requirement, in addition to what is listed in 33 CFR 104.215(d). Second, we add a statement that the evidence of knowledge of vessel operations obtained through training or equivalent job experience required for 33 CFR 104.215(d)(3) may be documented on agency, company, or vessel letterhead. This new instruction describes a method the mariner can use to provide evidence of training and job experience to the Coast Guard in their VSO endorsement application.

This notice is issued under authority of 5 U.S.C. 552(a).

Dated: October 29, 2021.
J.W. Mauger,
Rear Admiral, U.S. Coast Guard, Assistant Commandant for Prevention Policy.

[FR Doc. 2021-26878 Filed 12-10-21; 8:45 am]

BILLING CODE 9110-04-P